DEPARTMENT OF ENERGY

Federal Energy Regulatory Commission

[Docket No. RP03-470-000]

Southern Star Central Gas Pipeline, Inc.; Notice of Proposed Changes in FERC Gas Tariff

May 7, 2003.

Take notice that on May 2, 2003, Southern Star Central Gas Pipeline, Inc. (Southern Star) tendered for filing as part of its FERC Gas Tariff, Original Volume No. 1, the tariff sheets listed below to become effective May 15, 2003:

First Revised Sheet No. 153

Second Revised Sheet No. 244

Second Revised Sheet No. 246

Southern Star states that the tariff sheets filed herewith are being submitted to provide an alternative cash-out pricing index in the event that Inside FERC's Gas Market Report does not publish a price for Southern Star.

Southern Star states that this filing provides an alternative to the Inside FERC Gas Market Report, to be used only when necessary. Southern Star asserts that no other change in the terms and conditions under which cash-out may occur are tendered.

Southern Star states that copies of the tariff sheets are being mailed to Southern Star's jurisdictional customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 14, 2003.

Magalie R. Salas,
Secretary.

[FR Doc. 03-11941 Filed 5-12-03; 8:45 am]

BILLING CODE 6717-01-P